DEPARTMENT OF TRANSPORTATION

Federal Aviation Administration

14 CFR Part 39

[Docket No. FAA-2008-1127; Directorate Identifier 2008-CE-061-AD; Amendment 39-15707; AD 2008-22-11]

RIN 2120-AA64

Airworthiness Directives; Hawker Beechcraft Corporation Model 390 Airplanes

AGENCY: Federal Aviation Administration (FAA), DOT.

ACTION: Final rule; request for comments.

SUMMARY: The FAA is adopting a new airworthiness directive (AD) for certain Hawker Beechcraft Corporation (HBC) Model 390 airplanes. This AD requires you to inspect hydraulic pump pressure output hose assemblies to determine if they are from the affected lots, inspect for hydraulic fluid leaks if the hose assemblies are from the affected lots, and replace all affected hose assemblies. This AD results from reports of hydraulic leaks from the hydraulic pump pressure output hose assemblies. We are issuing this AD to prevent leakage of hydraulic fluid from the pump output hose within the engine compartment, which could result in an in-flight fire.

DATES: This AD becomes effective on November 3, 2008.

On November 3, 2008, the Director of the Federal Register approved the incorporation by reference of certain publications listed in this AD.

We must receive any comments on this AD by December 23, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Hawker Beechcraft Corporation, P.O. Box 85, Wichita, Kansas 67201-0085; telephone: (800) 429-5372 or (316) 676-3140; Internet: http://pubs.hawkerbeechcraft.com.

To view the comments to this AD, go to http://www.regulations.gov. The docket number is FAA-2008-1127; Directorate Identifier 2008-CE-061-AD.

FOR FURTHER INFORMATION CONTACT: Mike Imbler, Aerospace Engineer, Wichita Aircraft Certification Office, 1801 Airport Road, Room 100, Wichita, Kansas 67209; telephone: (316) 946-4147; fax: (316) 946-4107.

SUPPLEMENTARY INFORMATION:

Discussion

We received reports of hydraulic leaks from the hydraulic pump pressure output hose assemblies delivered to HBC. These assemblies were specially designed for use on the Model 390 airplanes and delivered only to HBC. Subsequent investigation revealed that a particular lot of hoses were thermally damaged during the manufacturing extrusion process. Parker's Stratoflex Products division discovered that some hose assemblies delivered to HBC for the Model 390 airplanes were in the thermally damaged lot of hoses.

This condition, if not corrected, could result in leakage of hydraulic fluid from the pump output hose within the engine compartment, which could cause an in-flight fire.

Relevant Service Information

We reviewed Hawker Beechcraft Mandatory Service Bulletin SB 29-3897, dated August 2008. The service information describes procedures for inspection for suspect hydraulic pump pressure output hose assemblies and replacement of hose assemblies if necessary.

FAA's Determination and Requirements of This AD

We are issuing this AD because we evaluated all the information and determined the unsafe condition described previously is likely to exist or develop on other products of the same type design. This AD requires inspection for suspect hydraulic pump pressure output hose assemblies and replacement of hose assemblies if necessary.

FAA's Determination of the Effective Date

An unsafe condition exists that requires the immediate adoption of this AD. The FAA has found that the risk to the flying public justifies waiving notice and comment prior to adoption of this rule because leakage of hydraulic fluid from the pump output hose within the engine compartment could result in an in-flight fire. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2008-1127; Directorate Identifier 2008-CE-061-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2008-22-11 Hawker Beechcraft Corporation: Amendment 39-15707; Docket No. FAA-2008-1127; Directorate Identifier 2008-CE-061-AD.

Effective Date

(a) This AD becomes effective on November 3, 2008.

Affected ADs

(b) None.

Applicability

(c) This AD applies to the following Model 390 airplanes that are certificated in any category:

(1) Serial numbers RB-1 and RB-4 through RB-209 equipped with hose kit 390-5805-0001 installed during compliance with Hawker Beechcraft Mandatory Service Bulletin 29-3800, dated May 2007); and

(2) Serial numbers RB-210 though RB-239.

Unsafe Condition

(d) This AD is the result of reports of hydraulic leaks from the hydraulic pump pressure output hose assemblies. We are issuing this AD to prevent leakage of hydraulic fluid from the pump output hose within the engine compartment, which could cause an in-flight fire.

Compliance

(e) To address this problem, you must do the following, unless already done:

Actions | Compliance | Procedures
(1) Initially inspect for suspect engine hydraulic pump pressure output hose assemblies, left part number (P/N) 170H143-6CR-0174 and right P/N 170H192D0394C275, by looking at the identification tags for work order numbers and manufacturing dates listed in Table 1 of the Hawker Beechcraft Mandatory Service Bulletin SB 29-3897, dated August 2008. If, as a result of this inspection, you find these affected hose assemblies are not installed, no further action is required | Within 10 hours time-in-service (TIS) after November 3, 2008 (the effective date of this AD). | Follow Hawker Beechcraft Mandatory Service Bulletin SB 29-3897, dated August 2008.
(2) If as a result of the inspection required in paragraph (e)(1) of this AD, you find one of the hose assemblies is installed, inspect for evidence of hydraulic fluid leakage | Initially within 10 hours time-in-service (TIS) after November 3, 2008 (the effective date of this AD) and repetitively thereafter at intervals not to exceed 10 hours TIS until whichever of the following occurs first: | Follow Hawker Beechcraft Mandatory Service Bulletin SB 29-3897, dated August 2008.
| (i) When 40 hours total TIS is accumulated on the installed hose assembly; or
| (ii) When the hose assembly is replaced following the procedures in the service information.
(3) Replace the hose assembly | Replace following paragraph (e)(3)(i) or (e)(3)(ii), whichever applies and occurs first: | Follow Hawker Beechcraft Mandatory Service Bulletin SB 29-3897, dated August 2008.
| (i) Before further flight after any inspection where hydraulic fluid leakage was found; or
| (ii) Within the next 200 hours TIS after November 3, 2008 (the effective date of this AD) or within the next 6 months after November 3, 2008 (the effective date of this AD), whichever occurs first.

(f) The replacement required by paragraph (e)(3) of this AD is terminating action for this AD. This replacement may be done instead of the inspections required by paragraphs (e)(1) and (e)(2) of this AD.

Alternative Methods of Compliance (AMOCs)

(g) The Manager, Wichita Aircraft Certification Office (ACO), FAA, has the authority to approve AMOCs for this AD, if requested using the procedures found in 14 CFR 39.19. Send information to ATTN: Mike Imbler, Aerospace Engineer, Wichita ACO, 1801 Airport Road, Room 100, Wichita, Kansas 67209; telephone: (316) 946-4147; fax: (316) 946-4107. Before using any approved AMOC on any airplane to which the AMOC applies, notify your appropriate principal inspector (PI) in the FAA Flight Standards District Office (FSDO), or lacking a PI, your local FSDO.

Material Incorporated by Reference

(h) You must use Hawker Beechcraft Mandatory Service Bulletin SB 29-3897, dated August 2008 to do the actions required by this AD, unless the AD specifies otherwise.

(1) The Director of the Federal Register approved the incorporation by reference of this service information under 5 U.S.C. 552(a) and 1 CFR part 51.

(2) For service information identified in this AD, contact Hawker Beechcraft Corporation, P.O. Box 85, Wichita, Kansas 67201-0085; telephone: (800) 429-5372 or (316) 676-3140; Internet: http://pubs.hawkerbeechcraft.com.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on October 17, 2008.
John Colomy,
Acting Manager, Small Airplane Directorate, Aircraft Certification Service.

[FR Doc. E8-25284 Filed 10-23-08; 8:45 am]

BILLING CODE 4910-13-P